DEPARTMENT OF COMMERCE

National Oceanic and Atmospheric Administration

Proposed Information Collection; Comment Request; Northwest Region Federal Fisheries Permits

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 1, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Kevin Ford, (206) 526-6115 or email at kevin.ford@noaa.gov.

SUPPLEMENTARY INFORMATION:

I. Abstract

This request is for a revision and extension of a currently approved information collection.

The Magnuson-Stevens Act (16 U.S.C. 1801) provides that the Secretary of Commerce is responsible for the conservation and management of marine fisheries resources in Exclusive Economic Zone (3-200 miles) of the United States (U.S.). NOAA Fisheries, Northwest Region manages the Pacific Coast Groundfish Fishery in the Exclusive Economic Zone (EEZ) off Washington, Oregon, and California under the Pacific Coast Groundfish Fishery Management Plan. The regulations implementing the Pacific Groundfish Fishery require that those individuals participating in the limited entry fishery have a valid limited entry permit. Participation in the fishery and access to a limited entry permit has been restricted to control the overall harvest capacity.

NOAA Fisheries seeks comment on the extension of permit information collections required for: (1) Renewal and transfer of Pacific Coast Groundfish limited entry permits; (2) implementation of certain provisions of the sablefish permit stacking program as provided for at 50 CFR 660.231 and 660.25; and (3) issuing and fulfilling the terms and conditions of certain exempted fishing permits (EFPs).

Each year permit owners are required to renew their permits by reviewing their current permit information, providing updated address and contact information as necessary and certifying that the permit information is correct. In addition, certain permit owners are required to respond to specific questions related to their participation in the fishery. Similarly, a permit owner is required to request changes in a vessel registered to the permit and/or changes in the permit owner or vessel owner. Additional information may be requested from the permit owner to determine compliance with groundfish regulations. The regulations implementing the limited entry program are found at 50 CFR Part 660, Subpart G.

Also, NOAA Fisheries requires an information collection to implement certain aspects of the sablefish permit stacking program which prevents excessive fleet consolidation. As part of the annual renewal process, NOAA Fisheries requires a corporation or partnership that owns or holds (as vessel owner) a sablefish endorsed permit to provide a complete ownership interest form listing all individuals with ownership interest in the entity. Similarly, any sablefish endorsed permit transfer involving registration of a business entity requires an ownership interest form. This information is used to determine if individuals own or hold sablefish permits in excess of the limit of 3 permits. Also, for transfer requests made during the sablefish primary season (April 1st through October 31st), the permit owner is required to report the remaining tier pounds not yet harvested on the sablefish endorsed permit at the time of transfer.

Applicants for an exempted fishing permit (EFP) must submit written information that allows NOAA Fisheries and the Pacific Fishery Management Council to evaluate the proposed exempted fishing project activities and weigh the benefits and costs of the proposed activities. The Council makes a recommendation on each EFP application and for successful applicants, NOAA Fisheries issues the EFPs which contains terms and conditions for the project including various reporting requirements. The information included in an application is specified at 50 CFR 600.745(b)(2) and the Council Operating Procedure #19. Permit holders are required to file preseason harvest plans, interim and/or final summary reports on the results of the project and in some cases individual vessels and other permit holders are required to provide data reports (logbooks and/or catch reports). There is also a requirement of vessel owners/operator to make a call-in notification prior to the fishing trip under an EFP. The results of EFPs are commonly used to explore ways to reduce effort on depressed stocks, encourage innovation and efficiency in the fishery, provide access to constrained stocks which directly measuring the bycatch associated with such strategies and evaluate/revise current and proposed management measures.

The currently approved application and reporting requirements are being revised in minor ways. Tentatively, the National Marine Fisheries Service (NMFS) anticipates adding a mandatory question to the renewal form to determine if a permit owner registered to a permit is considered a small business as defined by the Small Business Act. This information assists regional staff in preparing initial and final regulatory flexibility analyses (IRFA/FRFA) analyses required as part of various rulemakings.

In addition, NMFS anticipates making a minor change to the certification statement on the ownership interest, transfer and renewal forms to be consistent with other certification statements given on other forms. Specifically, the certification statement will include a clause that the individual making the certification (signing the form) is authorized to do so.

II. Method of Collection

Renewal forms are mailed to all permit owners and they may respond by mail or request access from NOAA Fisheries (user ID and password) to renew using the online permit renewal system. Ownership interest forms and permit transfer forms are available from the region's Web site but must be submitted to NOAA Fisheries by mail or in person. Applications for an exempted fishing permit must be submitted in a written format. The exempted fishing permit data reports may be submitted in person, faxed, submitted by telephone or emailed by the monitor, plant manager, vessel owner or operator to NOAA Fisheries or the states of Washington, Oregon, or California.

III. Data

OMB Control Number: 0648-0203.

Form Number: None.

Type of Review: Regular submission (revision and extension of a currently approved collection).

Affected Public: Non-profit institutions, State, local, or tribal government; business or other for-profit organizations.

Estimated Number of Annual Respondents: 516.

Estimated Time per Response: Permit renewals, 20 minutes; Permit transfers, 30 minutes; Sablefish ownership interest form, 30 minutes ; EFP Applications, 32 hours; EFP Trip Notifications 2 minutes; EFP Harvest Plans: 16 hours; EFP Data Reports: Logbook, 2 hours; bi-weekly catch report, 30 minutes; EFP Summary Reports: Interim report, 8 hours; final report, 40 hours.

Estimated Total Annual Burden Hours: 1,819 hour.

Estimated Total Annual Cost to Public: $55,118.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 23, 2013.
Glenna Mickelson,
Management Analyst, Office of the Chief Information Officer.

[FR Doc. 2013-01744 Filed 1-28-13; 8:45 am]

BILLING CODE 3510-22-P